DEPARTMENT OF HOUSING AND URBAN DEVELOPMENT

[Docket No. FR-5213-FA-02]

Announcement of Funding Awards for the HUD-Veterans Affairs Supportive Housing (HUD-VASH) Program for Fiscal Years (FY) 2008 and 2009

AGENCY: Office of Public and Indian Housing, HUD.

ACTION: Announcement of funding awards.

SUMMARY: In accordance with Section 102(a)(4)(C) of the Department of Housing and Urban Development Reform Act of 1989, this announcement notifies the public of funding decisions made by the Department for funding under the FY 2008 and FY 2009 HUD-VASH program. This announcement contains the consolidated names and addresses of those award recipients selected for funding under both the Consolidated Appropriations Act, 2008 (Pub. L. 110-161) and the Omnibus Appropriations Act, 2009 (Pub. L. 111-8).

FOR FURTHER INFORMATION CONTACT: Danielle Bastarache, Director, Housing Voucher Programs, Office of Public and Indian Housing, Department of Housing and Urban Development, 451 Seventh Street, SW., Room 4228, Washington, DC 20410, telephone number (202) 402-5264. For the hearing or speech impaired, this number may be accessed via TTY (text telephone) by calling the Federal Information Relay Service at 1 (800) 877-8339. (Other than the “800” TTY number, these telephone numbers are not toll-free.)

SUPPLEMENTARY INFORMATION: The Consolidated Appropriations Act, 2008 (Pub. L. 110-161) (“2008 Appropriations Act”) made $75 million available for HUD-VASH, an initiative that combines HUD Housing Choice Voucher (HCV) rental assistance for homeless veterans with case management and clinical services provided by the Department of Veterans Affairs (VA) at its medical centers and in the community. The HCV program is authorized under section 8(o)(19) of the United States Housing Act of 1937. The Omnibus Appropriations Act, 2009 (Pub. L. 111-8) (“2009 Appropriations Act”) made an additional $75 million available to HUD-VASH. Both the 2008 and 2009 Appropriations Acts require HUD to distribute assistance without competition, to public housing agencies (PHAs) that partner with eligible Veterans Affairs Medical Centers (VAMCs) or other entities as designated by the VA. As required by statute, selection was based on geographical need for such assistance as identified by the VA, public housing agency performance, and other factors as specified by the HUD in consultation with the VA. On May 6, 2008 (73 FR 25026), HUD published in the Federal Register a notice that set forth the policies and procedures for the administration of tenant-based Section 8 HCV rental assistance under the HUD-VASH program administered by local PHAs that have partnered with local VA medical centers. The Federal Register published a correction of the May 6, 2008 notice on May 19, 2008 (73 FR 28863).

As required by the FY 2008 and FY 2009 Appropriations Acts, the VA identified VAMCs to participate in the program taking into account the population of homeless veterans needing services in the area, the number of homeless veterans recently served by the homeless programs at each VAMC, geographic distribution, and the VA's case management resources. After considering location and administrative performance of PHAs in the jurisdiction of each VAMC, HUD invited PHAs to apply for HUD-VASH vouchers. In accordance with Section 102(a)(4)(C) of the Department of Housing and Urban Development Reform Act of 1989 (103 Stat. 1987, 42 U.S.C. 3545), today's Federal Register publication lists in Appendix A the names, addresses, number of vouchers and amounts of the 238 PHAs to which awards were made under the FY2008 and FY2009 HUD-VASH initiative to serve a total of 334 VA sites.

Dated: January 8, 2010.
Sandra B. Henriquez,
Assistant Secretary for Public and Indian Housing.

Appendix A
Recipient | Address | City | State | Zip code | Amount | Vouchers
2008 VASH Recipients
Alaska Housing Finance Corp. | P.O. Box 101020 | Anchorage | AK | 99510 | $233,066 | 35
Housing Authority of Birmingham District | 1826 3rd Avenue S. | Birmingham | AL | 35233 | 669,539 | 105
Housing Authority of Tuscaloosa | P.O. Box 2281 | Tuscaloosa | AL | 35403 | 151,658 | 35
Housing Authority of Tuskegee | 2901 Davison Street | Tuskegee Institute | AL | 36083 | 111,594 | 35
Housing Authority of the City of North Little Rock | P.O. Box 516 | North Little Rock | AR | 72115 | 508,750 | 105
Fayetteville Housing Authority | #1 North School Avenue | Fayetteville | AR | 72701 | 138,642 | 35
City of Phoenix | 251 W. Washington Street | Phoenix | AZ | 85003 | 790,726 | 105
City of Tucson | P.O. Box 27210 | Tucson | AZ | 85726 | 402,041 | 70
State of Arizona | 1110 W. Washington, Suite 310 | Phoenix | AZ | 85007 | 188,118 | 35
San Francisco Housing Authority | 440 Turk Street | San Francisco | CA | 94102 | 1,518,754 | 105
City of Los Angeles Housing Authority | 2600 Wilshire Blvd. | Los Angeles | CA | 90057 | 7,537,622 | 840
City of Fresno Housing Authority | P.O. Box 11985 | Fresno | CA | 93776 | 199,886 | 35
County of San Bernardino Housing Authority | 715 E. Brier Dr. | San Bernardino | CA | 92408 | 262,378 | 35
County of Santa Clara Housing Authority | 505 W. Julian Street | San Jose | CA | 95110 | 901,505 | 70
City of Pittsburg Housing Authority | 916 Cumberland Street | Pittsburg | CA | 94565 | 376,081 | 35
San Diego Housing Commission | 1122 Broadway, Suite 300 | San Diego | CA | 92101 | 1,018,798 | 105
City of Long Beach Housing Authority | 521 East 4th Street | Long Beach | CA | 90802 | 686,398 | 70
Colorado Department of Human Services | 4020 S. Newton St. | Denver | CO | 80236 | 1,004,170 | 210
West Haven Housing Authority | 15 Glade Street | West Haven | CT | 06516 | 587,882 | 70
D.C. Housing Authority | 1133 N. Capitol Street, NE | Washington | DC | 20002 | 1,689,341 | 140
Wilmington Housing Authority | 400 Walnut Street | Wilmington | DE | 19801 | 242,222 | 35
Housing Authority of Tampa | 1529 W. Main Street | Tampa | FL | 33607 | 897,007 | 105
Orlando Housing Authority | 390 North Bumby Avenue | Orlando | FL | 32803 | 498,103 | 70
Housing Authority of West Palm Beach | 1715 Division Avenue | West Palm Beach | FL | 33407 | 995,186 | 105
Housing Authority of Miami Beach | 200 Alton Road | Miami Beach | FL | 33139 | 763,447 | 105
Pinellas County Housing Authority | 11479 Ulmerton Road | Largo | FL | 33778 | 711,799 | 105
Gainesville Housing Authority | Post Office Box 1468 | Gainesville | FL | 32602 | 408,610 | 70
Housing Authority of Alachua County | 703 NE First Street | Gainesville | FL | 32601 | 386,921 | 70
City of Pensacola Section 8 | P.O. Box 12910 | Pensacola | FL | 32521 | 177,866 | 35
Housing Authority of Augusta | P.O. Box 3246 | Augusta | GA | 30914 | 196,081 | 35
Housing Authority Dekalb County | 750 Commerce Drive, Suite 201 | Decatur | GA | 30030 | 2,965,620 | 350
Georgia Department of Community Affairs | 60 Executive Parkway South, NE | Atlanta | GA | 30329 | 197,673 | 35
Guam Housing and Urban Renewal Authority | 117 Bien Venida Avenue | Sinajana | GQ | 96910 | 119,472 | 10
Hawaii Public Housing Authority | P.O. Box 17907 | Honolulu | HI | 96817 | 715,604 | 70
City of Des Moines Municipal Housing Agency | 100 East Euclid, Suite 101 | Des Moines | IA | 50313 | 162,145 | 35
City of Iowa City | 410 E. Washington Street | Iowa City | IA | 52240 | 160,520 | 35
Boise City Housing Authority | 1276 River Street, Suite 300 | Boise | ID | 83702 | 107,849 | 20
Chicago Housing Authority | 626 W. Jackson Blvd. | Chicago | IL | 60661 | 942,631 | 105
Housing Authority of Cook County | 175 W. Jackson, Suite 350 | Chicago | IL | 60604 | 650,471 | 70
City of N. Chicago Housing Authority | 1440 Jackson Street | North Chicago | IL | 60064 | 272,462 | 35
Fort Wayne Housing Authority | P.O. Box 13489 | Fort Wayne | IN | 46869 | 184,960 | 35
Indianapolis Housing Agency | 1919 North Meridian Street | Indianapolis | IN | 46202 | 447,166 | 70
Topeka Housing Authority | 2010 SE. California Avenue | Topeka | KS | 66607 | 135,790 | 35
Wichita Housing Authority | 332 Riverview Street | Wichita | KS | 67203 | 173,405 | 35
Housing Authority of the City of Leavenworth | 200 Shawnee Street | Leavenworth | KS | 66048 | 482,038 | 105
Louisville Housing Authority | 420 S. 8th Street | Louisville | KY | 40203 | 418,748 | 70
Lexington Fayette Urban County Housing Authority | 300 West New Circle Road | Lexington | KY | 40505 | 172,168 | 35
Kenner Housing Authority | 1013 31st Street | Kenner | LA | 70065 | 1,148,414 | 140
Alexandria Housing Authority | P.O. Box 8219 | Alexandria | LA | 71306 | 166,349 | 35
Bossier Parish Police Jury | 3022 Old Minden Road, Suite 206 | Bossier City | LA | 71112 | 149,104 | 35
Boston Housing Authority | 52 Chauncy Street | Boston | MA | 02111 | 1,321,702 | 105
Northampton Housing Authority | 49 Old South Street—Suite 1 | Northampton | MA | 01060 | 487,402 | 70
Comm. Dev. Prog. Comm. of Ma., E.O.C.D | 100 Cambridge Street, Suite 300 | Boston | MA | 02114 | 736,781 | 70
Cecil County Housing Agency | 200 Chesapeake Blvd., Suite 1800 | Elkton | MD | 21921 | 429,500 | 70
Baltimore Co. Housing Office | 6401 York Road | Baltimore | MD | 21212 | 741,623 | 105
Maine State Housing Authority | 353 Water Street | Augusta | ME | 04330 | 199,084 | 35
Saginaw Housing Commission | P.O. Box 3225 | Saginaw | MI | 48605 | 167,559 | 35
Battle Creek Housing Comm. | 250 Champion Street | Battle Creek | MI | 49017 | 125,357 | 35
Ann Arbor Housing Commission | 727 Miller Avenue | Ann Arbor | MI | 48103 | 554,467 | 70
Michigan State Housing Dev. Authority | 735 E. Michigan Avenue | Lansing | MI | 48912 | 598,538 | 105
Minneapolis Public Housing Authority | 1001 Washington Avenue N | Minneapolis | MN | 55401 | 601,415 | 70
St. Louis Housing Authority | 4100 Lindell Boulevard | Saint Louis | MO | 63108 | 227,779 | 35
Housing Authority of Kansas City, Missouri | 301 E. Armour Blvd.—#200 | Kansas City | MO | 64111 | 418,438 | 70
Columbia Housing Authority | 201 Switzler Street | Columbia | MO | 65203 | 166,585 | 35
Jackson Housing Authority | P.O. Box 11327 | Jackson | MS | 39283 | 205,036 | 35
MT Department of Commerce | P.O. Box 200545 | Helena | MT | 59620 | 141,683 | 35
Housing Authority of the City of Asheville | P.O. Box 1898 | Asheville | NC | 28802 | 171,818 | 35
Housing Authority of the County of Wake | P.O. Box 399 | Zebulon | NC | 27597 | 288,112 | 35
Housing Authority of Rowan County | 310 Long Meadow Drive | Salisbury | NC | 28147 | 232,609 | 35
Fargo Housing And Redevelopment Authority | P.O. Box 430 | Fargo | ND | 58107 | 131,153 | 35
Omaha Housing Authority | 540 S. 27th Street | Omaha | NE | 68105 | 206,732 | 35
Housing Authority of Lincoln | 5700 R Street | Lincoln | NE | 68505 | 144,816 | 35
Manchester Housing Authority | 198 Hanover Street | Manchester | NH | 03104 | 274,352 | 35
New Jersey Department of Community Affairs | 101 South Broad Street | Trenton | NJ | 08625 | 646,406 | 70
Albuquerque Housing Authority | 1840 University Boulevard SE | Albuquerque | NM | 87106 | 192,276 | 35
County of Clark Housing Authority | 5390 E. Flamingo Road | Las Vegas | NV | 89122 | 842,688 | 105
Nevada Rural Housing Authority | 3695 Desatoya Drive | Carson City | NV | 89701 | 407,291 | 70
Housing Authority of Syracuse | 516 Burt St | Syracuse | NY | 13202 | 193,536 | 35
New York City Housing Authority | 250 Broadway | New York | NY | 10007 | 9,383,229 | 1015
Albany Housing Authority | 200 South Pearl St | Albany | NY | 12202 | 184,737 | 35
Housing Authority of Rochester | 675 West Main St., Suite 100 | Rochester | NY | 14611 | 159,655 | 35
Town of Amherst | 1195 Main St | Buffalo | NY | 14209 | 151,284 | 35
NYS Housing Trust Fund Corporation | 25 Beaver St., 7th Floor | New York | NY | 10004 | 785,043 | 140
Columbus Metro. Housing Authority | 880 East 11th Ave | Columbus | OH | 43211 | 212,701 | 35
Cuyahoga MHA | 1441 W. 25th Street | Cleveland | OH | 44113 | 680,728 | 105
Cincinnati Metropolitan Housing Authority | 16 W. Central Parkway | Cincinnati | OH | 45202 | 430,189 | 70
Dayton Metropolitan Housing Authority | 400 Wayne Ave., P.O. Box 8750 | Dayton | OH | 45401 | 183,683 | 35
Chillicothe Met. Housing Authority | 178 W. 4th Street | Chillicothe | OH | 45601 | 168,454 | 35
Oklahoma City Housing Authority | 1700 NE. 4th Street | Oklahoma City | OK | 73117 | 190,819 | 35
Muskogee Housing Authority | 220 N. 40th Street | Muskogee | OK | 74401 | 117,428 | 35
Housing Authority of Portland | 135 SW. Ash Street | Portland | OR | 97204 | 469,098 | 70
Housing Authority of Douglas County | 902 West Stanton Street | Roseburg | OR | 97470 | 133,736 | 35
Housing Authority of Jackson County | 2231 Table Rock Road | Medford | OR | 97501 | 173,809 | 35
Philadelphia Housing Authority | 12 S. 23rd Street | Philadelphia | PA | 19103 | 717,482 | 105
Allegheny County Housing Authority | 625 Stanwix Street | Pittsburgh | PA | 15222 | 379,302 | 70
Housing Authority of the County of Butler | 114 Woody Drive | Butler | PA | 16001 | 184,750 | 35
Erie City Housing Authority | 606 Holland Street | Erie | PA | 16501 | 153,069 | 35
Hous. Authority of the Co. of Chester | 30 W. Barnard St Street | West Chester | PA | 19382 | 887,783 | 105
Wilkes Barre Housing Authority | 50 Lincoln Plaza, S. Wilkes Barre Blvd | Wilkes Barre | PA | 18702 | 159,667 | 35
Lebanon County Housing Authority | 303 Chestnut Street | Lebanon | PA | 17042 | 344,795 | 70
Providence H. A. | 100 Broad Street | Providence | RI | 02903 | 266,713 | 35
Puerto Rico Dept of Housing | P.O. Box 21365 | San Juan | RQ | 00928 | 111,365 | 20
Housing Authority of Charleston | 550 Meeting Street | Charleston | SC | 29403 | 360,872 | 70
Housing Authority of Columbia | 1917 Harden Street | Columbia | SC | 29204 | 383,116 | 70
Sioux Falls Housing & Redevelopment Commission | 630 S. Minnesota Avenue | Sioux Falls | SD | 57104 | 175,568 | 35
Pennington County Housing & Redevelopment Comm | 1805 W. Fulton Street, Ste. 101 | Rapid City | SD | 57702 | 169,961 | 35
Meade County Housing & Redevelopment Commission | 1220 Cedar Street, Apartment 113 | Sturgis | SD | 57785 | 138,508 | 35
Memphis Housing Authority | P.O. Box 3664 | Memphis | TN | 38103 | 626,081 | 105
Housing Authority of Johnson City | P.O. Box 59 | Johnson City | TN | 37605 | 286,440 | 70
Metropolitan Developmnt & Housing Agncy | 701 6th St | Nashville | TN | 37202 | 385,342 | 70
Housing Authority of El Paso | 5300 E. Paisano Dr | El Paso | TX | 79905 | 192,759 | 35
Houston Housing Authority | 2640 Fountain View | Houston | TX | 77057 | 2,844,534 | 385
San Antonio Housing Authority | 818 Flores St | San Antonio | TX | 78295 | 423,830 | 70
Housing Authority of Dallas | 3939 N. Hampton Road | Dallas | TX | 75212 | 784,312 | 105
Housing Authority of Waco | P.O. Box 978 | Waco | TX | 76703 | 539,078 | 105
Housing Authority of Salt Lake City | 1776 S. West Temple | Salt Lake City | UT | 84115 | 220,109 | 35
Richmond Redevelopment & Housing Authority | P.O. Box 26887 | Richmond | VA | 23261 | 242,206 | 35
Roanoke Redevelopment & Housing Authority | P.O. Box 6359 | Roanoke | VA | 24017 | 169,210 | 35
Hampton Redevelopement & Housing Authority | P.O. Box 280 | Hampton | VA | 23669 | 993,283 | 140
Vermont State Housing Authority | 1 Prospect Street | Montpelier | VT | 05602 | 109,495 | 20
Seattle Housing Authority | 120 Sixth Avenue North | Seattle | WA | 98109 | 406,511 | 52
King County Housing Authority | 600 Andover Park West | Seattle | WA | 98188 | 431,621 | 53
Pierce County Housing Authority | P.O. Box 45410 | Tacoma | WA | 98445 | 225,901 | 35
Spokane Housing Authority | 55 W. Mission Avenue | Spokane | WA | 99201 | 165,635 | 35
Housing Authority of the City of Walla Walla | 501 Cayuse Street | Walla Walla | WA | 99362 | 278,670 | 70
Housing Authority of the City of Milwaukee | P.O. Box 324 | Milwaukee | WI | 53201 | 384,241 | 70
Tomah Housing Authority | 819 Superior Avenue | Tomah | WI | 54660 | 53,596 | 35
Huntington Wv Housing Authority | P.O. Box 2183 | Huntington | WV | 25722 | 160,726 | 35
Martinsburg Housing Authority | 703 S. Porter Avenue | Martinsburg | WV | 25401 | 152,027 | 35
Clarksburg Housing Authority | 433 Baltimore Avenue | Clarksburg | WV | 26301 | 120,880 | 35
Housing Authority of the City of Cheyenne | 3304 Sheridan Street | Cheyenne | WY | 82009 | 347,592 | 70
2009 VASH Recipients
Alaska Housing Finance Corporation | P.O. Box 101020 | Anchorage | AK | 99510 | 209,277 | 35
Housing Authority of the City of Montgomery | 1020 Bell Street | Montgomery | AL | 36104 | 185,507 | 35
Housing Authority of Huntsville | P.O. Box 486 | Huntsville | AL | 35804 | 172,523 | 35
Housing Authority of Bessemer | P.O. Box 1390 | Bessemer | AL | 35021 | 436,797 | 70
Housing Authority of the City of North Little Rock | P.O. Box 516 | North Little Rock | AR | 72115 | 96,820 | 20
City of Phoenix | 251 W. Washington Street, Floor 4 | Phoenix | AZ | 85003 | 855,038 | 105
City of Tucson | P.O. Box 27210 | Tucson | AZ | 85726 | 417,221 | 70
City of Mesa | 415 N. Pasadena | Mesa | AZ | 85201 | 235,367 | 35
San Francisco Housing Authority | 440 Turk Street | San Francisco | CA | 94102 | 1,008,492 | 70
County of Los Angeles Housing Authority | 2 S. Coral Circle | Monterey Park | CA | 91755 | 2,797,092 | 280
Oakland Housing Authority | 1619 Harrison Street | Oakland | CA | 94612 | 1,337,422 | 105
City of Los Angeles Housing Authority | 2600 Wilshire Blvd | Los Angeles | CA | 90057 | 996,056 | 105
City of Fresno Housing Authority | P.O. Box 11985 | Fresno | CA | 93776 | 209,174 | 35
County of Sacramento Housing Authority | 701 12th Street | Sacramento | CA | 95814 | 578,793 | 70
Housing Authority of the County of Kern | 601-24th Street | Bakersfield | CA | 93301 | 174,267 | 35
County of Santa Barbara Housing Authority | P.O. Box 397 | Lompoc | CA | 93438 | 302,112 | 35
County of San Joaquin Housing Authority | P.O. Box 447 | Stockton | CA | 95201 | 251,426 | 35
County of Riverside Housing Authority | 5555 Arlington Avenue | Riverside | CA | 92504 | 776,053 | 105
Tulare County Housing Authority | P.O. Box 791 | Visalia | CA | 93279 | 195,981 | 35
County of Monterey Housing Authority | 123 Rico Street | Salinas | CA | 93907 | 264,520 | 35
County of Butte Housing Authority | 2039 Forest Ave., Suite # 10 | Chico | CA | 95928 | 182,081 | 35
County of Marin Housing Authority | 4020 Civic Center Drive | San Rafael | CA | 94903 | 418,286 | 35
County of Santa Clara Housing Authority | 505 W. Julian Street | San Jose | CA | 95110 | 1,693,609 | 140
San Diego Housing Commission | 1122 Broadway Suite 300 | San Diego | CA | 92101 | 1,013,637 | 105
City of Long Beach Housing Authority | 521 East 4th Street | Long Beach | CA | 90802 | 1,049,687 | 105
Mendocino County | 1076 N. State Street | Ukiah | CA | 95482 | 213,295 | 35
City of Santa Rosa | P.O. Box 1806 | Santa Rosa | CA | 95402 | 296,429 | 35
County of Orange Housing Authority | 1770 North Broadway | Santa Ana | CA | 92706 | 745,382 | 70
County of San Diego | 3989 Ruffin Road | San Diego | CA | 92123 | 937,823 | 105
Housing Authority of the City and County of Denver | Box 40305, Mile High Station | Denver | CO | 80204 | 1,181,620 | 140
Housing Authority of Pueblo | 1414 N. Santa Fe Ave., 10th Floor | Pueblo | CO | 81003 | 185,153 | 35
Fort Collins Housing Authority | 1715 W. Mountain Avenue | Fort Collins | CO | 80521 | 531,697 | 70
Grand Junction Housing Authority | 1011 North Tenth Street | Grand Junction | CO | 81501 | 172,297 | 35
Hartford Housing Authority | 180 Overlook Terrace | Hartford | CT | 06106 | 283,080 | 35
Housing Authority of the City of New Haven | P.O. Box 1912 | New Haven | CT | 06509 | 355,357 | 35
Waterbury Housing Authority | 2 Lakewood Road | Waterbury | CT | 06704 | 246,906 | 35
D.C. Housing Authority | 1133 N. Capitol Street NE | Washington | DC | 20002 | 2,021,458 | 175
Housing Authority of Jacksonville | 1300 Broad St. Street | Jacksonville | FL | 32202 | 1,411,780 | 210
St. Petersburg Housing Authority | 11479 Ulmerton Road | Largo | FL | 33778 | 573,291 | 70
Housing Authority of Tampa | 1529 W. Main Street | Tampa | FL | 33607 | 309,330 | 35
Orlando Housing Authority | 390 North Bumby Avenue | Orlando | FL | 32803 | 729,331 | 105
Housing Authority of Daytona Beach | 211 N. Ridgewood Ave., Suite 200 | Daytona Beach | FL | 32114 | 219,714 | 35
Housing Authority of Sarasota | 1300 6th Street | Sarasota | FL | 34236 | 304,370 | 35
Housing Authority of West Palm Beach | 1715 Division Avenue | West Palm Beach | FL | 33407 | 354,403 | 35
City of Lakeland Housing Authority | P.O. Box 1009 | Lakeland | FL | 33802 | 195,623 | 35
Housing Authority of Miami Beach | 200 Alton Road | Miami Beach | FL | 33139 | 531,154 | 70
Panama City Housing Authority | 804 E. 15th Street | Panama City | FL | 32405 | 197,832 | 35
Housing Authority of the City of Titusville | 524 S. Hopkins Avenue | Titusville | FL | 32796 | 414,515 | 70
Housing Authority of the City of Fort Meyers | 4224 Michigan Avenue | Fort Myers | FL | 33916 | 340,112 | 70
Broward County Housing Authority | 4780 N. State Road 7 | Lauderdale Lakes | FL | 33319 | 812,745 | 70
Housing Authority of Lee County | 14170 Warner Circle | North Fort Myers | FL | 33903 | 174,769 | 35
Housing Authority of Augusta | P.O. Box 3246 | Augusta | GA | 30914 | 208,557 | 35
Housing Authority of Dekalb County | 750 Commerce Drive, Suite 201 | Decatur | GA | 30030 | 1,127,269 | 140
Georgia Department of Community Affairs | 60 Executive Parkway South, NE | Atlanta | GA | 30329 | 609,645 | 105
Guam Housing and Urban Renewal Authority | 117 Bien Venida Avenue | Sinajana | GQ | 96910 | 124,142 | 10
Hawaii Public Housing Authority | P.O. Box 17907 | Honolulu | HI | 96817 | 363,545 | 35
City of Des Moines Municipal Housing Authority | 100 East Euclid, Suite 101 | Des Moines | IA | 50313 | 159,910 | 35
Mason City Housing Authority | 22 N. Georgia—#214 | Mason City | IA | 50401 | 110,305 | 35
Boise City Housing Authority | 1276 River Street, Suite 300 | Boise | ID | 83702 | 106,589 | 20
Chicago Housing Authority | 626 W. Jackson Blvd | Chicago | IL | 60661 | 984,977 | 105
City of Danville Housing Authority | P.O. Box 168 | Danville | IL | 61834 | 153,409 | 35
Rockford Housing Authority | 223 S. Winnebago Street | Rockford | IL | 61102 | 179,432 | 35
Housing Authority of Cook County | 175 W. Jackson, Suite 350 | Chicago | IL | 60604 | 322,749 | 35
City of N. Chicago Housing Authority | 1440 Jackson Street | North Chicago | IL | 60064 | 285,313 | 35
City of Fort Wayne Housing Authority | P.O. Box 13489 | Fort Wayne | IN | 46869 | 184,692 | 35
Indianapolis Housing Agency | 1919 North Meridian Street | Indianapolis | IN | 46202 | 220,611 | 35
Bloomington Housing Authority | 1007 N. Summit Street | Bloomington | IN | 47404 | 203,898 | 35
Marion Housing Authority | 601 S. Adams Street | Marion | IN | 46953 | 137,255 | 35
Topeka Housing Authority | 2010 SE. California Avenue | Topeka | KS | 66607 | 129,976 | 35
Wichita Housing Authority | 332 Riverview Street | Wichita | KS | 67203 | 170,693 | 35
Louisville Housing Authority | 420 S. 8th Street | Louisville | KY | 40203 | 637,836 | 105
Lexington Fayette Urban County Housing Authority | 300 West New Circle Road | Lexington | KY | 40505 | 195,422 | 35
Newport Housing Authority | P.O. Box 72459 | Newport | KY | 41072 | 167,815 | 35
Lafayette (City) Housing Authority | 115 Katie Drive | Lafayette | LA | 70501 | 150,723 | 35
Kenner Housing Authority | 1013 31st Street | Kenner | LA | 70065 | 316,704 | 35
Bossier Parish Police Jury | 3022 Old Minden Road, Suite 206 | Bossier City | LA | 71112 | 164,155 | 35
Boston Housing Authority | 52 Chauncy Street | Boston | MA | 02111 | 1,315,498 | 105
Cambridge Housing Authority | 675 Massachusetts Avenue | Cambridge | MA | 02139 | 476,676 | 35
New Bedford Housing Authority | 134 South Second Street | New Bedford | MA | 02741 | 246,688 | 35
Worcester Housing Authority | 40 Belmont Street | Worcester | MA | 01605 | 243,505 | 35
Northampton Housing Authority | 49 Old South Street—Suite 1 | Northampton | MA | 01060 | 235,375 | 35
Braintree Housing Authority | 25 Roosevelt Street | Braintree | MA | 02184 | 376,236 | 35
Chelmsford Housing Authority | 10 Wilson Street | Chelmsford | MA | 01824 | 265,528 | 35
Community Development Program, Comm. of MA | 100 Cambridge Street, Suite 300 | Boston | MA | 02114 | 339,396 | 35
Housing Authority Prince George's County | 9400 Peppercorn Place, Suite 200 | Largo | MD | 20774 | 439,519 | 35
Baltimore County Housing office | 6401 York Road | Baltimore | MD | 21212 | 525,512 | 70
Portland Housing Authority | 14 Baxter Boulevard | Portland | ME | 04101 | 277,261 | 35
Battle Creek Housing Commission | 250 Champion Street | Battle Creek | MI | 49017 | 132,381 | 35
Lansing Housing Commission | 310 Seymour Avenue | Lansing | MI | 48933 | 202,216 | 35
Kent County Housing Commission | 82 Ionia Avenue, NW. Suite 390 | Grand Rapids | MI | 49503 | 247,387 | 35
Michigan State Housing Development Authority | 735 E. Michigan Avenue | Lansing | MI | 48912 | 992,758 | 175
St. Paul Public Housing Authority | 555 N. Wabasha Street Suite 400 | Saint Paul | MN | 55102 | 270,759 | 35
Minneapolis Public Housing Authority | 1001 Washington Avenue N | Minneapolis | MN | 55401 | 303,276 | 35
St. Cloud Hra | 1225 W. Saint Germain | Saint Cloud | MN | 56301 | 173,399 | 35
St. Louis Housing Authority | 4100 Lindell Boulevard | Saint Louis | MO | 63108 | 215,553 | 35
Columbia Housing Authority | 201 Switzler Street | Columbia | MO | 65203 | 179,046 | 35
Joplin Housing Authority | 1834 W. 24th Street | Joplin | MO | 64804 | 112,366 | 35
Housing Authority of Biloxi | P.O. Box 447 | Biloxi | MS | 39533 | 230,230 | 35
Jackson Housing Authority | P.O. Box 11327 | Jackson | MS | 39283 | 207,936 | 35
Housing Authority of Billings | 2415 1st Avenue N | Billings | MT | 59101 | 156,954 | 35
Housing Authority of the City of Wilmington | P.O. Box 899 | Wilmington | NC | 28402 | 82,712 | 15
Hou of the City of Charlotte | P.O. Box 36795 | Charlotte | NC | 28236 | 266,918 | 35
Housing Authority of the City of Asheville | P.O. Box 1898 | Asheville | NC | 28802 | 166,359 | 35
Fayetteville Metropolitan Housing Authority | P.O. Box 2349 | Fayetteville | NC | 28302 | 106,697 | 20
Greensboro Housing Authority | P.O. Box 21287 | Greensboro | NC | 27420 | 175,781 | 35
Housing Authority of Winston-Salem | 500 West Fourth Street, Suite 300 | Winston-Salem | NC | 27101 | 177,327 | 35
Housing Authority of the County of Wake | P.O. Box 399 | Zebulon | NC | 27597 | 515,362 | 70
Housing Authority of the City of Greenville | P.O. Box 1426 | Greenville | NC | 27835 | 140,175 | 35
Fargo Housing And Redevelopment Authority | P.O. Box 430 | Fargo | ND | 58107 | 131,830 | 35
Omaha Housing Authority | 540 S. 27th Street | Omaha | NE | 68105 | 197,067 | 35
Manchester Housing Authority | 198 Hanover Street | Manchester | NH | 03104 | 271,561 | 35
Long Branch Housing Authority | P.O. Box 337 | Long Branch | NJ | 07740 | 379,682 | 35
Jersey City Housing Authority | 400 U.S. Highway #1 | Jersey City | NJ | 07306 | 592,192 | 70
Camden Housing Authority | 2021 Watson Street | Camden | NJ | 08105 | 286,649 | 35
Paterson Housing Authority | 60 Van Houten Street | Paterson | NJ | 07505 | 378,658 | 35
New Brunswick Housing Authority | P.O. Box 110 | New Brunswick | NJ | 08903 | 347,757 | 35
New Jersey Department of Community Affairs | 101 South Broad Street | Trenton | NJ | 08625 | 637,224 | 70
Albuquerque Housing Authority | 1840 University Boulevard SE | Albuquerque | NM | 87106 | 181,012 | 35
Las Cruces Housing Authority | 926 S. San Pedro Street | Las Cruces | NM | 88001 | 161,013 | 35
Santa Fe County Housing Authority | 52 Camino De Jacobo | Santa Fe | NM | 87507 | 264,898 | 35
City of Reno Housing Authority | 1525 E. 9th Street | Reno | NV | 89512 | 218,419 | 35
County of Clark Housing Authority | 5390 E. Flamingo Road | Las Vegas | NV | 89122 | 1,494,483 | 175
Housing Authority of Syracuse | 516 Burt St | Syracuse | NY | 13202 | 193,090 | 35
New York City Housing Authority | 250 Broadway | New York | NY | 10007 | 2,622,952 | 280
Albany Housing Authority | 200 South Pearl St | Albany | NY | 12202 | 372,050 | 70
Housing Authority of Rome | 205 St. Peter's Ave | Rome | NY | 13440 | 136,720 | 35
Housing Authority of Rochester | 675 West Main St. Suite 100 | Rochester | NY | 14611 | 162,283 | 35
Poughkeepsie Housing Authority | 4 Howard Street | Poughkeepsie | NY | 12601 | 222,791 | 35
Town of Amherst | 1195 Main St | Buffalo | NY | 14209 | 304,786 | 70
NYS Housing Trust Fund Corporation | 25 Beaver St, 7th Floor | New York | NY | 10004 | 1,435,674 | 175
Columbus Metropolitan Housing Authority | 880 East 11th Ave | Columbus | OH | 43211 | 205,551 | 35
Cuyahoga Metropolitan Housing Authority | 1441 W. 25th Street | Cleveland | OH | 44113 | 467,896 | 70
Cincinnati Metropolitan Housing Authority | 16 W. Central Parkway | Cincinnati | OH | 45202 | 204,712 | 35
Lucas Metropolitan Housing Authority | P.O. Box 477 | Toledo | OH | 43697 | 184,318 | 35
Akron Metropolitan Housing Authority | 100 W. Cedar Street | Akron | OH | 44307 | 195,985 | 35
Athens Metropolitan Housing Authority | 10 Hope Drive | Athens | OH | 45701 | 155,823 | 35
Oklahoma City Housing Authority | 1700 NE. 4th Street | Oklahoma City | OK | 73117 | 184,939 | 35
Housing Authority of Portland | 135 SW. Ash Street | Portland | OR | 97204 | 240,639 | 35
Housing Authority & Community Services Agency of Lane County | 177 Day Island Road | Eugene | OR | 97401 | 178,318 | 35
Housing Authority of Jackson County | 2231 Table Rock Road | Medford | OR | 97501 | 354,333 | 70
Linn-Benton Housing Authority | 1250 SE. Queen Ave | Albany | OR | 97322 | 181,818 | 35
Philadelphia Housing Authority | 12 S. 23rd Street | Philadelphia | PA | 19103 | 663,622 | 105
Allegheny County Housing Authority | 625 Stanwix Street | Pittsburgh | PA | 15222 | 187,995 | 35
Harrisburg Housing Authority | 351 Chestnut Street | Harrisburg | PA | 17101 | 229,013 | 35
Housing Authority of the County of Butler | 114 Woody Drive | Butler | PA | 16001 | 76,344 | 15
Delaware County Housing Authority | 1855 Constitution Avenue | Woodlyn | PA | 19094 | 274,485 | 35
Hous Authority of the County of Chester | 30 W. Barnard Street | West Chester | PA | 19382 | 287,768 | 35
Wilkes Barre Housing Authority | 50 Lincoln Plaza, S. Wilkes Barre Blvd | Wilkes Barre | PA | 18702 | 156,785 | 35
Lebanon County Housing Authority | 303 Chestnut Street | Lebanon | PA | 17042 | 99,544 | 20
Blair County Housing Authority | P.O. Box 167 | Hollidaysburg | PA | 16648 | 124,395 | 35
Providence Housing Authority | 100 Broad Street | Providence | RI | 02903 | 239,459 | 35
Puerto Rico Deparment of Housing | P.O. Box 21365 | San Juan | RQ | 00928 | 199,033 | 35
Housing Authority of Columbia | 1917 Harden Street | Columbia | SC | 29204 | 198,835 | 35
Housing Authority Greenville | P.O. Box 10047 | Greenville | SC | 29603 | 189,619 | 35
Housing Authority of Myrtle Beach | P.O. Box 2468 | Myrtle Beach | SC | 29578 | 189,891 | 35
Pennington County Housing & Redevelopment Comm | 1805 W. Fulton Street, Ste. 101 | Rapid City | SD | 57702 | 170,767 | 35
Memphis Housing Authority | P.O. Box 3664 | Memphis | TN | 38103 | 121,432 | 20
Knoxville Community Devel. Corp | P.O. Box 3550 | Knoxville | TN | 37927 | 182,089 | 35
Chattanooga Housing Authority | P.O. Box 1486 | Chattanooga | TN | 37401 | 182,751 | 35
Metropolitan Development & Housing Agency | 701 6th St | Nashville | TN | 37202 | 192,078 | 35
Housing Authority of Dickson | 333 Martin Luther King Jr. Boulevard | Dickson | TN | 37055 | 161,769 | 35
Housing Authority of Oak Ridge | 10 Van Hicks Lane | Oak Ridge | TN | 37830 | 150,834 | 35
Austin Housing Authority | P.O. Box 6159 | Austin | TX | 78762 | 583,843 | 70
Housing Authority of El Paso | 5300 E. Paisano Dr | El Paso | TX | 79905 | 192,720 | 35
Fort Worth Housing Authority | 1201 13th St | Fort Worth | TX | 76101 | 647,941 | 105
Houston Housing Authority | 2640 Fountain View | Houston | TX | 77057 | 1,509,320 | 210
San Antonio Housing Authority | 818 Flores St | San Antonio | TX | 78295 | 470,815 | 70
Housing Authority of Dallas | 3939 N. Hampton Road | Dallas | TX | 75212 | 821,591 | 105
Galveston Housing Authority | 4700 Broadway Street | Galveston | TX | 77551 | 225,015 | 35
Housing Authority of Abilene | P.O. Box 60 | Abilene | TX | 79604 | 297,186 | 70
Panhandle Community Services | P.O. Box 32150 | Amarillo | TX | 79120 | 157,385 | 35
Central Texas Council of Governments | P.O. Box 729 | Belton | TX | 76513 | 163,501 | 35
Deep East Texas Council of Governments | 210 Premier Drive | Jasper | TX | 75951 | 177,306 | 35
Housing Authority of Salt Lake City | 1776 S. West Temple | Salt Lake City | UT | 84115 | 435,308 | 70
Norfolk Redevelopment & Housing Authority | P.O. Box 968 | Norfolk | VA | 23501 | 261,571 | 35
Fairfax County Redevelopment And Housing Authority | 3700 Pender Drive Suite 300 | Fairfax | VA | 22030 | 426,409 | 35
City of Virginia Beach | Princess Anne Park Municipal Center—Building 18a | Virginia Beach | VA | 23456 | 270,541 | 35
Virginia Housing Development Authority | P.O. Box 4545 | Richmond | VA | 23220 | 226,776 | 35
Vermont State Housing Authority | 1 Prospect Street | Montpelier | VT | 05602 | 195,007 | 35
Seattle Housing Authority | 120 Sixth Avenue North | Seattle | WA | 98109 | 455,610 | 53
King County Housing Authority | 600 Andover Park West | Seattle | WA | 98188 | 526,969 | 52
Housing Authority of the City of Bremerton | P.O. Box 4460 | Bremerton | WA | 98312 | 222,766 | 35
Housing Authority of the City of Tacoma | 902 S. L Street | Tacoma | WA | 98405 | 270,487 | 35
Housing Authority of the City of Vancouver | 2500 Main Street | Vancouver | WA | 98660 | 406,718 | 70
Housing Authority of Snohomish County | 12625 4th Avenue W. Suite 200 | Everett | WA | 98204 | 296,495 | 35
Housing Authority of the City of Yakima | 810 N. 6th Avenue | Yakima | WA | 98902 | 161,987 | 35
Housing Authority of Thurston County | 503 West Fourth Avenue | Olympia | WA | 98501 | 204,256 | 35
Pierce County Housing Authority | P.O. Box 45410 | Tacoma | WA | 98445 | 240,955 | 35
Spokane Housing Authority | 55 W. Mission Avenue | Spokane | WA | 99201 | 173,416 | 35
Housing Authority of the City of Milwaukee | P.O. Box 324 | Milwaukee | WI | 53201 | 193,382 | 35
Madison Community Development Authority | P.O. Box 1785 | Madison | WI | 53701 | 224,674 | 35
Racine County Housing Authority | 837 S. Main Street | Racine | WI | 53403 | 177,360 | 35
Huntington WV Housing Authority | P.O. Box 2183 | Huntington | WV | 25722 | 165,746 | 35
Housing Authority of Raleigh County | P.O. Box 2618 | Beckley | WV | 25802 | 123,560 | 35

[FR Doc. 2010-7219 Filed 3-30-10; 8:45 am]

BILLING CODE 4210-67-P